POSTAL REGULATORY COMMISSION

Public Meetings on Service Standards and Measurement

AGENCY: Postal Regulatory Commission.

ACTION: Notice of meetings.

SUMMARY: On Monday, September 24, 2007, the Commission will host two public meetings related to implementation of the Postal Accountability and Enhancement Act (PAEA) of 2006. Information obtained at these events will assist the Commission in meeting statutory requirements for consultation with the Postal Service on development of modern service standards. At the first meeting, which will be held from 10 a.m. to 12 p.m., representatives of the Mailers Technical Advisory Committee (MTAC) will brief the Commission on final MTAC workgroup recommendations to the Postal Service on service standards and service measurement systems. This meeting will be broadcast live and will be accessible via the Internet from the Commission's Web site (http://www.prc.gov). At the second meeting, which will begin at 1:30 p.m., there will be a discussion of retail service measurement and related issues with representatives of the American Postal Workers Union. Both events will be held in the Commission's main conference room and both will be open to the public.

DATES: September 24, 2007.

ADDRESSES: Postal Regulatory Commission, 901 New York Avenue, NW., Suite 200, Washington, DC 20268-0001.

FOR FURTHER INFORMATION CONTACT: Stephen L. Sharfman, general counsel, Postal Regulatory Commission, 202-789-6820 or stephen.sharfman@prc.gov.

(Authority: 39 U.S.C. 3691)

Steven W. Williams,
Secretary.

[FR Doc. E7-18382 Filed 9-18-07; 8:45 am]

BILLING CODE 7719-FW-P